DEPARTMENT OF LABOR

Employment and Training Administration

Labor Surplus Area Classification Under Executive Orders 12073 and 10582

AGENCY: Employment and Training Administration, Labor.

ACTION: Notice.

SUMMARY: The purpose of this notice is to announce the annual list of labor surplus areas for Fiscal Year (FY) 2009.

DATES: Effective Date: The annual list of labor surplus areas is effective October 1, 2008, for all states, the District of Columbia, and Puerto Rico.

FOR FURTHER INFORMATION CONTACT: Anthony D. Dais, Office of Workforce Investment, Employment and Training Administration, 200 Constitution Avenue, NW., Room S-4231, Washington, DC 20210. Telephone: (202) 693-2784 (This is not a toll-free number).

SUPPLEMENTARY INFORMATION: The Department of Labor's regulations implementing Executive Orders 12073 and 10582 are set forth at 20 CFR Part 654, Subparts A and B. These regulations require the Employment and Training Administration (ETA) to classify jurisdictions as labor surplus areas pursuant to the criteria specified in the regulations and to publish annually a list of labor surplus areas. Pursuant to those regulations, ETA is hereby publishing the annual list of labor surplus areas.

In addition, the regulations provide exceptional circumstance criteria for classifying labor surplus areas when catastrophic events, such as natural disasters, plant closings, and contract cancellations are expected to have a long-term impact on labor market area conditions, discounting temporary or seasonal factors.

Eligible Labor Surplus Areas

Procedures for Classifying Labor Surplus Areas

The Department of Labor (DOL) issues the labor surplus area list on a fiscal year basis. The list becomes effective each October 1 and remains in effect through the following September 30. The reference period used in preparing the current list was January 2006 through December 2007. The national average unemployment rate during this period was 4.7 percent. Applying the “floor” concept (see regulations), the unemployment rate for an area to qualify as having a surplus of labor for FY 2009 is 6.0 percent. Therefore, areas included on the FY 2009 labor surplus area list had an average unemployment rate of 6.0 percent or above during the reference period. This year the balance of county areas are not listed since all of the balance of county areas eligible to be a labor surplus area were in counties that also qualified as a labor surplus area. A second listing would be unnecessarily redundant and potentially confusing. The FY 2009 labor surplus area list can be accessed at: http://www.doleta.gov/programs/lsa.cfm.

Petition for Exceptional Circumstance Consideration

The classification procedures also provide for the designation of labor surplus areas under exceptional circumstance criteria. These procedures permit the regular classification criteria to be waived when an area experiences a significant increase in unemployment, which is not temporary or seasonal and was not reflected in the data for the 2-year reference period. Under the program's exceptional circumstance procedures, labor surplus area classifications can be made for civil jurisdictions, Metropolitan Statistical Areas or Primary Metropolitan Statistical Areas, as defined by the Office of Management and Budget. In order for an area to be classified as a labor surplus area under the exceptional circumstance criteria, the state workforce agency must submit a petition requesting such classification to the DOL ETA. The current criteria for an exceptional circumstance classification are: An area's unemployment rate of at least 6.0 percent for each of the three most recent months; a projected unemployment rate of at least 6.0 percent for each of the next 12 months; and documentation that the exceptional circumstance event has already occurred. The state workforce agency may file petitions on behalf of civil jurisdictions, as well as Metropolitan Statistical Areas or Primary Metropolitan Statistical Areas. The addresses of state workforce agencies are available on the ETA Web site at: http://www.doleta.gov/programs/lsa.cfm. State workforce agencies may submit petitions in electronic format to dais.anthony@dol.gov, or in hard copy to the U.S. Department of Labor, Employment and Training Administration, Office of Workforce Investment, 200 Constitution Avenue, NW., Room S-4231, Washington, DC 20210. Data collection for the petition is approved under OMB 1205-0207, expiration date March 31, 2011.

Signed at Washington, DC this 30th day of September, 2008.
Brent R. Orrell,
Deputy Assistant Secretary for Employment and Training Administration.

LABOR SURPLUS AREAS
[October 1, 2008 THROUGH September 30, 2009]
ELIGIBLE LABOR SURPLUS AREAS | CIVIL JURISDICTIONS INCLUDED
ALABAMA
BULLOCK COUNTY | BULLOCK COUNTY
DALLAS COUNTY | DALLAS COUNTY
LOWNDES COUNTY | LOWNDES COUNTY
PERRY COUNTY | PERRY COUNTY
WILCOX COUNTY | WILCOX COUNTY
ALASKA
ALEUTIANS EAST BOROUGH | ALEUTIANS EAST BOROUGH
BETHEL CENSUS AREA | BETHEL CENSUS AREA
DENALI BOROUGH | DENALI BOROUGH
DILLINGHAM CENSUS AREA | DILLINGHAM CENSUS AREA
FAIRBANKS CITY | FAIRBANKS CITY IN
| FAIRBANKS NORTH STAR BOROUGH
HAINES BOROUGH | HAINES BOROUGH
KENAI PENINSULA BOROUGH | KENAI PENINSULA BOROUGH
KODIAK ISLAND BOROUGH | KODIAK ISLAND BOROUGH
MATANUSKA-SUSITNA BOROUGH | MATANUSKA-SUSITNA BOROUGH
NOME CENSUS AREA | NOME CENSUS AREA
NORTH SLOPE BOROUGH | NORTH SLOPE BOROUGH
NORTHWEST ARCTIC BOROUGH | NORTHWEST ARCTIC BOROUGH
PRINCE OF WALES OUTER KETCHIKAN | PRINCE OF WALES OUTER KETCHIKAN
SKAGWAY-HOONAH-ANGOON CEN AREA | SKAGWAY-HOONAH-ANGOON CEN AREA
SOUTHEAST FAIRBANKS CENSUS AREA | SOUTHEAST FAIRBANKS CENSUS AREA
VALDEZ CORDOVA CENSUS AREA | VALDEZ CORDOVA CENSUS AREA
WADE HAMPTON CENSUS AREA | WADE HAMPTON CENSUS AREA
WRANGELL-PETERSBURG CENSUS AREA | WRANGELL-PETERSBURG CENSUS AREA
YAKUTAT BOROUGH | YAKUTAT BOROUGH
YUKON-KOYUKUK CENSUS AREA | YUKON-KOYUKUK CENSUS AREA
ARIZONA
APACHE COUNTY | APACHE COUNTY
NAVAJO COUNTY | NAVAJO COUNTY
SANTA CRUZ COUNTY | SANTA CRUZ COUNTY
YUMA CITY | YUMA CITY IN
| YUMA COUNTY
YUMA COUNTY | YUMA COUNTY
ARKANSAS
ARKANSAS COUNTY | ARKANSAS COUNTY
ASHLEY COUNTY | ASHLEY COUNTY
BRADLEY COUNTY | BRADLEY COUNTY
CALHOUN COUNTY | CALHOUN COUNTY
CHICOT COUNTY | CHICOT COUNTY
CLAY COUNTY | CLAY COUNTY
CLEVELAND COUNTY | CLEVELAND COUNTY
COLUMBIA COUNTY | COLUMBIA COUNTY
CRITTENDEN COUNTY | CRITTENDEN COUNTY
| WEST MEMPHIS CITY
CROSS COUNTY | CROSS COUNTY
DALLAS COUNTY | DALLAS COUNTY
DESHA COUNTY | DESHA COUNTY
DREW COUNTY | DREW COUNTY
GREENE COUNTY | GREENE COUNTY
HOT SPRINGS CITY | HOT SPRINGS CITY IN
| GARLAND COUNTY
INDEPENDENCE COUNTY | INDEPENDENCE COUNTY
IZARD COUNTY | IZARD COUNTY
JACKSON COUNTY | JACKSON COUNTY
JACKSONVILLE CITY | JACKSONVILLE CITY IN
| PULASKI COUNTY
JEFFERSON COUNTY | JEFFERSON COUNTY
LAFAYETTE COUNTY | LAFAYETTE COUNTY
LAWRENCE COUNTY | LAWRENCE COUNTY
LEE COUNTY | LEE COUNTY
LINCOLN COUNTY | LINCOLN COUNTY
MISSISSIPPI COUNTY | MISSISSIPPI COUNTY
MONROE COUNTY | MONROE COUNTY
OUACHITA COUNTY | OUACHITA COUNTY
PHILLIPS COUNTY | PHILLIPS COUNTY
PINE BLUFF CITY | PINE BLUFF CITY IN
| JEFFERSON COUNTY
POINSETT COUNTY | POINSETT COUNTY
RANDOLPH COUNTY | RANDOLPH COUNTY
SHARP COUNTY | SHARP COUNTY
ST. FRANCIS COUNTY | ST. FRANCIS COUNTY
UNION COUNTY | UNION COUNTY
VAN BUREN COUNTY | VAN BUREN COUNTY
WEST MEMPHIS CITY | WEST MEMPHIS CITY IN
| CRITTENDEN COUNTY
WHITE COUNTY | WHITE COUNTY
WOODRUFF COUNTY | WOODRUFF COUNTY
CALIFORNIA
ADELANTO CITY, CA | ADELANTO CITY, CA IN
| SAN BERNARDINO COUNTY
ALPINE COUNTY | ALPINE COUNTY
ATWATER CITY, CA | ATWATER CITY, CA IN
| MERCED COUNTY
BALDWIN PARK CITY | BALDWIN PARK CITY IN
| LOS ANGELES COUNTY
BANNING CITY | BANNING CITY IN
| RIVERSIDE COUNTY
BEAUMONT CITY, CA | BEAUMONT CITY, CA IN
| RIVERSIDE COUNTY
BELL CITY | BELL CITY IN
| LOS ANGELES COUNTY
BELL GARDENS CITY | BELL GARDENS CITY IN
| LOS ANGELES COUNTY
BUTTE COUNTY | BUTTE COUNTY
CALAVERAS COUNTY | CALAVERAS COUNTY
CALEXICO CITY | CALEXICO CITY IN
| IMPERIAL COUNTY
CERES CITY | CERES CITY IN
| STANISLAUS COUNTY
CHICO CITY | CHICO CITY IN
| BUTTE COUNTY
COACHELLA CITY | COACHELLA CITY IN
| RIVERSIDE COUNTY
COLUSA COUNTY | COLUSA COUNTY
COMPTON CITY | COMPTON CITY IN
| LOS ANGELES COUNTY
DEL NORTE COUNTY | DEL NORTE COUNTY
DELANO CITY | DELANO CITY IN
| KERN COUNTY
EAST PALO ALTO CITY | EAST PALO ALTO CITY IN
| SAN MATEO COUNTY
EL CAJON CITY | EL CAJON CITY IN
| SAN DIEGO COUNTY
EL CENTRO CITY | EL CENTRO CITY IN
| IMPERIAL COUNTY
EL MONTE CITY | EL MONTE CITY IN
| LOS ANGELES COUNTY
EUREKA CITY | EUREKA CITY IN
| HUMBOLDT COUNTY
FRESNO CITY | FRESNO CITY IN
| FRESNO COUNTY
FRESNO COUNTY | FRESNO COUNTY
GILROY CITY | GILROY CITY IN
| SANTA CLARA COUNTY
GLENN COUNTY | GLENN COUNTY
HANFORD CITY | HANFORD CITY IN
| KINGS COUNTY
HAWTHORNE CITY | HAWTHORNE CITY IN
| LOS ANGELES COUNTY
HEMET CITY | HEMET CITY IN
| RIVERSIDE COUNTY
HESPERIA CITY | HESPERIA CITY IN
| SAN BERNARDINO COUNTY
HIGHLAND CITY | HIGHLAND CITY IN
| SAN BERNARDINO COUNTY
HOLISTER CITY | HOLISTER CITY IN
| SAN BENITO COUNTY
HUNTINGTON PARK CITY | HUNTINGTON PARK CITY IN
| LOS ANGELES COUNTY
IMPERIAL BEACH CITY | IMPERIAL BEACH CITY IN
| SAN DIEGO COUNTY
IMPERIAL COUNTY | IMPERIAL COUNTY
INDIO CITY | INDIO CITY IN
| RIVERSIDE COUNTY
INGLEWOOD CITY | INGLEWOOD CITY IN
| LOS ANGELES COUNTY
KERN COUNTY | KERN COUNTY
KINGS COUNTY | KINGS COUNTY
LAKE COUNTY | LAKE COUNTY
LANCASTER CITY | LANCASTER CITY IN
| LOS ANGELES COUNTY
LASSEN COUNTY | LASSEN COUNTY
LINCOLN CITY, CA | LINCOLN CITY, CA IN
| PLACER COUNTY
LOMPOC CITY | LOMPOC CITY IN
| SANTA BARBARA COUNTY
LOS BANOS CITY | LOS BANOS CITY IN
| MERCED COUNTY
LYNWOOD CITY | LYNWOOD CITY IN
| LOS ANGELES COUNTY
MADERA CITY | MADERA CITY IN
| MADERA COUNTY
MADERA COUNTY | MADERA COUNTY
MANTECA CITY | MANTECA CITY IN
| SAN JOAQUIN COUNTY
MAYWOOD CITY | MAYWOOD CITY IN
| LOS ANGELES COUNTY
MERCED CITY | MERCED CITY IN
| MERCED COUNTY
MERCED COUNTY | MERCED COUNTY
MODESTO CITY | MODESTO CITY IN
| STANISLAUS COUNTY
MODOC COUNTY | MODOC COUNTY
MONTEREY COUNTY | MONTEREY COUNTY
MORENO VALLEY CITY | MORENO VALLEY CITY IN
| RIVERSIDE COUNTY
MORGAN HILL CITY | MORGAN HILL CITY IN
| SANTA CLARA COUNTY
NATIONAL CITY | NATIONAL CITY IN
| SAN DIEGO COUNTY
OAKLAND CITY | OAKLAND CITY IN
| ALAMEDA COUNTY
OXNARD CITY | OXNARD CITY IN
| VENTURA COUNTY
PALMDALE CITY | PALMDALE CITY IN
| LOS ANGELES COUNTY
PARAMOUNT CITY | PARAMOUNT CITY IN
| LOS ANGELES COUNTY
PERRIS CITY | PERRIS CITY IN
| RIVERSIDE COUNTY
PITTSBURG CITY | PITTSBURG CITY IN
| CONTRA COSTA COUNTY
PLUMAS COUNTY | PLUMAS COUNTY
PORTERVILLE CITY | PORTERVILLE CITY IN
| TULARE COUNTY
REDDING CITY | REDDING CITY IN
| SHASTA COUNTY
RIALTO CITY | RIALTO CITY IN
| SAN BERNARDINO COUNTY
RICHMOND CITY | RICHMOND CITY IN
| CONTRA COSTA COUNTY
SACRAMENTO CITY | SACRAMENTO CITY IN
| SACRAMENTO COUNTY
SALINAS CITY | SALINAS CITY IN
| MONTEREY COUNTY
SAN BENITO COUNTY | SAN BENITO COUNTY
SAN BERNARDINO CITY | SAN BERNARDINO CITY IN
| SAN BERNARDINO COUNTY
SAN JACINTO CITY | SAN JACINTO CITY IN
| RIVERSIDE COUNTY
SAN JOAQUIN COUNTY | SAN JOAQUIN COUNTY
SAN PABLO CITY | SAN PABLO CITY IN
| CONTRA COSTA COUNTY
SANTA ANA CITY | SANTA ANA CITY IN
| ORANGE COUNTY
SANTA MARIA CITY | SANTA MARIA CITY IN
| SANTA BARBARA COUNTY
SANTA PAULA CITY | SANTA PAULA CITY IN
| VENTURA COUNTY
SHASTA COUNTY | SHASTA COUNTY
SIERRA COUNTY | SIERRA COUNTY
SISKIYOU COUNTY | SISKIYOU COUNTY
SOLEDAD CITY, CA | SOLEDAD CITY, CA IN
| MONTEREY COUNTY
SOUTH GATE CITY | SOUTH GATE CITY IN
| LOS ANGELES COUNTY
STANISLAUS COUNTY | STANISLAUS COUNTY
STANTON CITY | STANTON CITY IN
| ORANGE COUNTY
STOCKTON CITY | STOCKTON CITY IN
| SAN JOAQUIN COUNTY
SUTTER COUNTY | SUTTER COUNTY
TEHAMA COUNTY | TEHAMA COUNTY
TRINITY COUNTY | TRINITY COUNTY
TULARE CITY | TULARE CITY IN
| TULARE COUNTY
TULARE COUNTY | TULARE COUNTY
TUOLUMNE COUNTY | TUOLUMNE COUNTY
TURLOCK CITY | TURLOCK CITY IN
| STANISLAUS COUNTY
TWENTYNINE PALMS CITY | TWENTYNINE PALMS CITY IN
| SAN BERNARDINO COUNTY
VALLEJO CITY | VALLEJO CITY IN
| SOLANO COUNTY
VICTORVILLE CITY | VICTORVILLE CITY IN
| SAN BERNARDINO COUNTY
WATSONVILLE CITY | WATSONVILLE CITY IN
| SANTA CRUZ COUNTY
WEST SACRAMENTO CITY | WEST SACRAMENTO CITY IN
| YOLO COUNTY
WOODLAND CITY | WOODLAND CITY IN
| YOLO COUNTY
YUBA CITY | YUBA CITY IN
| SUTTER COUNTY
YUBA COUNTY | YUBA COUNTY
COLORADO
COMMERCE CITY CITY, CO | COMMERCE CITY CITY, CO IN
| ADAMS COUNTY
CONEJOS COUNTY | CONEJOS COUNTY
COSTILLA COUNTY | COSTILLA COUNTY
CROWLEY COUNTY | CROWLEY COUNTY
PUEBLO CITY | PUEBLO CITY IN
| PUEBLO COUNTY
CONNECTICUT
BRIDGEPORT CITY | BRIDGEPORT CITY
HARTFORD CITY | HARTFORD CITY
NEW BRITAIN CITY | NEW BRITAIN CITY
NEW HAVEN CITY | NEW HAVEN CITY
WATERBURY CITY | WATERBURY CITY
WINDHAM TOWN | WINDHAM TOWN
FLORIDA
FORT PIERCE CITY | FORT PIERCE CITY IN
| ST. LUCIE COUNTY
HENDRY COUNTY | HENDRY COUNTY
GEORGIA
AUGUSTA CITY | AUGUSTA CITY IN
| RICHMOND COUNTY
BEN HILL COUNTY | BEN HILL COUNTY
BURKE COUNTY | BURKE COUNTY
CALHOUN COUNTY | CALHOUN COUNTY
CHATTAHOOCHEE COUNTY | CHATTAHOOCHEE COUNTY
ELBERT COUNTY | ELBERT COUNTY
HANCOCK COUNTY | HANCOCK COUNTY
HART COUNTY | HART COUNTY
JEFF DAVIS COUNTY | JEFF DAVIS COUNTY
JEFFERSON COUNTY | JEFFERSON COUNTY
JENKINS COUNTY | JENKINS COUNTY
MACON CITY | MACON CITY IN
| BIBB COUNTY
| JONES COUNTY
MACON COUNTY | MACON COUNTY
MC DUFFIE COUNTY | MC DUFFIE COUNTY
MERIWETHER COUNTY | MERIWETHER COUNTY
RANDOLPH COUNTY | RANDOLPH COUNTY
RICHMOND COUNTY | RICHMOND COUNTY
STEWART COUNTY | STEWART COUNTY
SUMTER COUNTY | SUMTER COUNTY
TALBOT COUNTY | TALBOT COUNTY
TALIAFERRO COUNTY | TALIAFERRO COUNTY
TELFAIR COUNTY | TELFAIR COUNTY
TURNER COUNTY | TURNER COUNTY
UPSON COUNTY | UPSON COUNTY
WARREN COUNTY | WARREN COUNTY
WILKES COUNTY | WILKES COUNTY
IDAHO
BENEWAH COUNTY | BENEWAH COUNTY
BOUNDARY COUNTY | BOUNDARY COUNTY
CLEARWATER COUNTY | CLEARWATER COUNTY
ILLINOIS
ALEXANDER COUNTY | ALEXANDER COUNTY
ALTON CITY | ALTON CITY IN
| MADISON COUNTY
BELLEVILLE CITY | BELLEVILLE CITY IN
| ST. CLAIR COUNTY
BELVIDERE CITY, IL | BELVIDERE CITY, IL IN
| BOONE COUNTY
BOONE COUNTY | BOONE COUNTY
CALHOUN COUNTY | CALHOUN COUNTY
CALUMET CITY | CALUMET CITY IN
| COOK COUNTY
CARPENTERSVILLE CITY | CARPENTERSVILLE CITY IN
| KANE COUNTY
CHICAGO HEIGHTS CITY | CHICAGO HEIGHTS CITY IN
| COOK COUNTY
CICERO CITY | CICERO CITY IN
| COOK COUNTY
DANVILLE CITY | DANVILLE CITY IN
| VERMILION COUNTY
DECATUR CITY | DECATUR CITY IN
| MACON COUNTY
EAST ST. LOUIS CITY | EAST ST. LOUIS CITY IN
| ST. CLAIR COUNTY
FAYETTE COUNTY | FAYETTE COUNTY
FRANKLIN COUNTY | FRANKLIN COUNTY
GALLATIN COUNTY | GALLATIN COUNTY
GRANITE CITY | GRANITE CITY IN
| MADISON COUNTY
HARDIN COUNTY | HARDIN COUNTY
HARVEY CITY | HARVEY CITY IN
| COOK COUNTY
JOHNSON COUNTY | JOHNSON COUNTY
KANKAKEE CITY | KANKAKEE CITY IN
| KANKAKEE COUNTY
KANKAKEE COUNTY | KANKAKEE COUNTY
MARION COUNTY | MARION COUNTY
MASON COUNTY | MASON COUNTY
MAYWOOD VILLAGE | MAYWOOD VILLAGE IN
| COOK COUNTY
MONTGOMERY COUNTY | MONTGOMERY COUNTY
NORTH CHICAGO CITY | NORTH CHICAGO CITY IN
| LAKE COUNTY
PERRY COUNTY | PERRY COUNTY
POPE COUNTY | POPE COUNTY
PULASKI COUNTY | PULASKI COUNTY
ROCKFORD CITY | ROCKFORD CITY IN
| WINNEBAGO COUNTY
ROUND LAKE BEACH VILLAGE | ROUND LAKE BEACH VILLAGE IN
| LAKE COUNTY
SALINE COUNTY | SALINE COUNTY
ST. CLAIR COUNTY | ST. CLAIR COUNTY
UNION COUNTY | UNION COUNTY
VERMILION COUNTY | VERMILION COUNTY
WAUKEGAN CITY | WAUKEGAN CITY IN
| LAKE COUNTY
INDIANA
ANDERSON CITY | ANDERSON CITY IN
| MADISON COUNTY
BLACKFORD COUNTY | BLACKFORD COUNTY
CRAWFORD COUNTY | CRAWFORD COUNTY
EAST CHICAGO CITY | EAST CHICAGO CITY IN
| LAKE COUNTY
ELKHART CITY | ELKHART CITY IN
| ELKHART COUNTY
FAYETTE COUNTY | FAYETTE COUNTY
GARY CITY | GARY CITY IN
| LAKE COUNTY
GRANT COUNTY | GRANT COUNTY
HAMMOND CITY | HAMMOND CITY IN
| LAKE COUNTY
HOWARD COUNTY | HOWARD COUNTY
KOKOMO CITY | KOKOMO CITY IN
| HOWARD COUNTY
LAWRENCE COUNTY | LAWRENCE COUNTY
MADISON COUNTY | MADISON COUNTY
MARION CITY | MARION CITY IN
| GRANT COUNTY
MICHIGAN CITY | MICHIGAN CITY IN
| LA PORTE COUNTY
MUNCIE CITY | MUNCIE CITY IN
| DELAWARE COUNTY
ORANGE COUNTY | ORANGE COUNTY
RANDOLPH COUNTY | RANDOLPH COUNTY
STARKE COUNTY | STARKE COUNTY
STEUBEN COUNTY | STEUBEN COUNTY
TERRE HAUTE CITY | TERRE HAUTE CITY IN
| VIGO COUNTY
VERMILLION COUNTY | VERMILLION COUNTY
IOWA
APPANOOSE COUNTY | APPANOOSE COUNTY
LEE COUNTY | LEE COUNTY
MONTGOMERY COUNTY | MONTGOMERY COUNTY
KANSAS
KANSAS CITY KN | KANSAS CITY KN IN
| WYANDOTTE COUNTY
LEAVENWORTH CITY | LEAVENWORTH CITY IN
| LEAVENWORTH COUNTY
LINN COUNTY | LINN COUNTY
WYANDOTTE COUNTY | WYANDOTTE COUNTY
KENTUCKY
ALLEN COUNTY | ALLEN COUNTY
BALLARD COUNTY | BALLARD COUNTY
BATH COUNTY | BATH COUNTY
BELL COUNTY | BELL COUNTY
BOYLE COUNTY | BOYLE COUNTY
BREATHITT COUNTY | BREATHITT COUNTY
BRECKINRIDGE COUNTY | BRECKINRIDGE COUNTY
BUTLER COUNTY | BUTLER COUNTY
CARLISLE COUNTY | CARLISLE COUNTY
CARTER COUNTY | CARTER COUNTY
CASEY COUNTY | CASEY COUNTY
CHRISTIAN COUNTY | CHRISTIAN COUNTY
| HOPKINSVILLE CITY
CLAY COUNTY | CLAY COUNTY
CRITTENDEN COUNTY | CRITTENDEN COUNTY
CUMBERLAND COUNTY | CUMBERLAND COUNTY
EDMONSON COUNTY | EDMONSON COUNTY
ELLIOTT COUNTY | ELLIOTT COUNTY
ESTILL COUNTY | ESTILL COUNTY
FLEMING COUNTY | FLEMING COUNTY
FLOYD COUNTY | FLOYD COUNTY
FULTON COUNTY | FULTON COUNTY
GRAVES COUNTY | GRAVES COUNTY
GRAYSON COUNTY | GRAYSON COUNTY
GREEN COUNTY | GREEN COUNTY
HARLAN COUNTY | HARLAN COUNTY
HART COUNTY | HART COUNTY
HICKMAN COUNTY | HICKMAN COUNTY
HOPKINS COUNTY | HOPKINS COUNTY
HOPKINSVILLE CITY | HOPKINSVILLE CITY IN
| CHRISTIAN COUNTY
JACKSON COUNTY | JACKSON COUNTY
JOHNSON COUNTY | JOHNSON COUNTY
KNOTT COUNTY | KNOTT COUNTY
KNOX COUNTY | KNOX COUNTY
LAWRENCE COUNTY | LAWRENCE COUNTY
LEE COUNTY | LEE COUNTY
LESLIE COUNTY | LESLIE COUNTY
LETCHER COUNTY | LETCHER COUNTY
LEWIS COUNTY | LEWIS COUNTY
LINCOLN COUNTY | LINCOLN COUNTY
LYON COUNTY | LYON COUNTY
MAGOFFIN COUNTY | MAGOFFIN COUNTY
MARSHALL COUNTY | MARSHALL COUNTY
MARTIN COUNTY | MARTIN COUNTY
MC CREARY COUNTY | MC CREARY COUNTY
MC LEAN COUNTY | MC LEAN COUNTY
MEADE COUNTY | MEADE COUNTY
MENIFEE COUNTY | MENIFEE COUNTY
MONROE COUNTY | MONROE COUNTY
MONTGOMERY COUNTY | MONTGOMERY COUNTY
MORGAN COUNTY | MORGAN COUNTY
MUHLENBERG COUNTY | MUHLENBERG COUNTY
NICHOLAS COUNTY | NICHOLAS COUNTY
OWSLEY COUNTY | OWSLEY COUNTY
PERRY COUNTY | PERRY COUNTY
PIKE COUNTY | PIKE COUNTY
POWELL COUNTY | POWELL COUNTY
PULASKI COUNTY | PULASKI COUNTY
ROCKCASTLE COUNTY | ROCKCASTLE COUNTY
RUSSELL COUNTY | RUSSELL COUNTY
SPENCER COUNTY | SPENCER COUNTY
TODD COUNTY | TODD COUNTY
TRIMBLE COUNTY | TRIMBLE COUNTY
WAYNE COUNTY | WAYNE COUNTY
WHITLEY COUNTY | WHITLEY COUNTY
WOLFE COUNTY | WOLFE COUNTY
LOUISIANA
EAST CARROLL PARISH | EAST CARROLL PARISH
MOREHOUSE PARISH | MOREHOUSE PARISH
ST. HELENA PARISH | ST. HELENA PARISH
ST. JAMES PARISH | ST. JAMES PARISH
TENSAS PARISH | TENSAS PARISH
WEST CARROLL PARISH | WEST CARROLL PARISH
MAINE
AROOSTOOK COUNTY | AROOSTOOK COUNTY
FRANKLIN COUNTY | FRANKLIN COUNTY
PISCATAQUIS COUNTY | PISCATAQUIS COUNTY
SOMERSET COUNTY | SOMERSET COUNTY
WASHINGTON COUNTY | WASHINGTON COUNTY
MARYLAND
BALTIMORE CITY | BALTIMORE CITY IN
MASSACHUSETTS
ADAMS TOWN | ADAMS TOWN IN
| BERKSHIRE COUNTY
ATHOL TOWN | ATHOL TOWN IN
| WORCESTER COUNTY
BROCKTON CITY | BROCKTON CITY IN
| PLYMOUTH COUNTY
BROOKFIELD TOWN | BROOKFIELD TOWN IN
| WORCESTER COUNTY
CHELSEA CITY | CHELSEA CITY IN
| SUFFOLK COUNTY
CUMMINGTON TOWN | CUMMINGTON TOWN IN
| HAMPSHIRE COUNTY
FALL RIVER CITY | FALL RIVER CITY IN
| BRISTOL COUNTY
FITCHBURG CITY | FITCHBURG CITY IN
| WORCESTER COUNTY
FLORIDA TOWN | FLORIDA TOWN IN
| BERKSHIRE COUNTY
GARDNER TOWN | GARDNER TOWN IN
| WORCESTER COUNTY
HOLYOKE CITY | HOLYOKE CITY IN
| HAMPDEN COUNTY
LAWRENCE CITY | LAWRENCE CITY IN
| ESSEX COUNTY
MONROE TOWN | MONROE TOWN IN
| FRANKLIN COUNTY
NEW BEDFORD CITY | NEW BEDFORD CITY IN
| BRISTOL COUNTY
PROVINCETOWN TOWN | PROVINCETOWN TOWN IN
| BARNSTABLE COUNTY
SOUTHBRIDGE TOWN | SOUTHBRIDGE TOWN IN
| WORCESTER COUNTY
SPRINGFIELD CITY | SPRINGFIELD CITY IN
| HAMPDEN COUNTY
TEMPLETON TOWN | TEMPLETON TOWN IN
| WORCESTER COUNTY
TRURO TOWN | TRURO TOWN IN
| BARNSTABLE COUNTY
WARREN TOWN | WARREN TOWN IN
| WORCESTER COUNTY
WEBSTER TOWN | WEBSTER TOWN IN
| WORCESTER COUNTY
WELLFLEET TOWN | WELLFLEET TOWN IN
| BARNSTABLE COUNTY
WESTPORT TOWN | WESTPORT TOWN IN
| BRISTOL COUNTY
WINCHENDON TOWN | WINCHENDON TOWN IN
| WORCESTER COUNTY
MICHIGAN
ALCONA COUNTY | ALCONA COUNTY
ALGER COUNTY | ALGER COUNTY
ALLEGAN COUNTY | ALLEGAN COUNTY
ALPENA COUNTY | ALPENA COUNTY
ANTRIM COUNTY | ANTRIM COUNTY
ARENAC COUNTY | ARENAC COUNTY
BARAGA COUNTY | BARAGA COUNTY
BATTLE CREEK CITY | BATTLE CREEK CITY IN
| CALHOUN COUNTY
BAY CITY | BAY CITY IN
| BAY COUNTY
BAY COUNTY | BAY COUNTY
BENZIE COUNTY | BENZIE COUNTY
BERRIEN COUNTY | BERRIEN COUNTY
BLACKMAN CHARTER TOWNSHIP | BLACKMAN CHARTER TOWNSHIP IN
| JACKSON COUNTY
BRANCH COUNTY | BRANCH COUNTY
BURTON CITY | BURTON CITY IN
| GENESEE COUNTY
CALHOUN COUNTY | CALHOUN COUNTY
CHARLEVOIX COUNTY | CHARLEVOIX COUNTY
CHEBOYGAN COUNTY | CHEBOYGAN COUNTY
CHESTERFIELD TOWNSHIP | CHESTERFIELD TOWNSHIP IN
| MACOMB COUNTY
CHIPPEWA COUNTY | CHIPPEWA COUNTY
CLARE COUNTY | CLARE COUNTY
CLINTON TOWNSHIP | CLINTON TOWNSHIP IN
| MACOMB COUNTY
CRAWFORD COUNTY | CRAWFORD COUNTY
DELTA COUNTY | DELTA COUNTY
DETROIT CITY | DETROIT CITY IN
| WAYNE COUNTY
EAST LANSING CITY | EAST LANSING CITY IN
| INGHAM COUNTY
EASTPOINTE CITY | EASTPOINTE CITY IN
EMMET COUNTY | EMMET COUNTY
FLINT CITY | FLINT CITY IN
| GENESEE COUNTY
FLINT TOWNSHIP | FLINT TOWNSHIP IN
| GENESEE COUNTY
GENESEE COUNTY | GENESEE COUNTY
GLADWIN COUNTY | GLADWIN COUNTY
GOGEBIC COUNTY | GOGEBIC COUNTY
GRAND RAPIDS CITY | GRAND RAPIDS CITY IN
| KENT COUNTY
GRAND TRAVERSE COUNTY | GRAND TRAVERSE COUNTY
GRATIOT COUNTY | GRATIOT COUNTY
HARRISON TOWNSHIP | HARRISON TOWNSHIP IN
| MACOMB COUNTY
HILLSDALE COUNTY | HILLSDALE COUNTY
HOLLAND CITY | HOLLAND CITY IN
| ALLEGAN COUNTY
| OTTAWA COUNTY
HOUGHTON COUNTY | HOUGHTON COUNTY
HURON COUNTY | HURON COUNTY
INGHAM COUNTY | INGHAM COUNTY
INKSTER CITY | INKSTER CITY IN
| WAYNE COUNTY
IONIA COUNTY | IONIA COUNTY
IOSCO COUNTY | IOSCO COUNTY
IRON COUNTY | IRON COUNTY
JACKSON CITY | JACKSON CITY IN
| JACKSON COUNTY
JACKSON COUNTY | JACKSON COUNTY
KALAMAZOO CITY | KALAMAZOO CITY IN
| KALAMAZOO COUNTY
KALKASKA COUNTY | KALKASKA COUNTY
KEWEENAW COUNTY | KEWEENAW COUNTY
LAKE COUNTY | LAKE COUNTY
LANSING CITY | LANSING CITY IN
| EATON COUNTY
| INGHAM COUNTY
LAPEER COUNTY | LAPEER COUNTY
LENAWEE COUNTY | LENAWEE COUNTY
LINCOLN PARK CITY | LINCOLN PARK CITY IN
| WAYNE COUNTY
LUCE COUNTY | LUCE COUNTY
MACKINAC COUNTY | MACKINAC COUNTY
MACOMB COUNTY | MACOMB COUNTY
MACOMB TOWNSHIP | MACOMB TOWNSHIP IN
| MACOMB COUNTY
MADISON HEIGHTS CITY | MADISON HEIGHTS CITY IN
| OAKLAND COUNTY
MANISTEE COUNTY | MANISTEE COUNTY
MARQUETTE COUNTY | MARQUETTE COUNTY
MASON COUNTY | MASON COUNTY
MECOSTA COUNTY | MECOSTA COUNTY
MENOMINEE COUNTY | MENOMINEE COUNTY
MISSAUKEE COUNTY | MISSAUKEE COUNTY
MONROE COUNTY | MONROE COUNTY
MONTCALM COUNTY | MONTCALM COUNTY
MONTMORENCY COUNTY | MONTMORENCY COUNTY
MUSKEGON CITY | MUSKEGON CITY IN
| MUSKEGON COUNTY
MUSKEGON COUNTY | MUSKEGON COUNTY
NEWAYGO COUNTY | NEWAYGO COUNTY
OAK PARK CITY | OAK PARK CITY IN
| OAKLAND COUNTY
OAKLAND COUNTY | OAKLAND COUNTY
OCEANA COUNTY | OCEANA COUNTY
OGEMAW COUNTY | OGEMAW COUNTY
ONTONAGON COUNTY | ONTONAGON COUNTY
OSCEOLA COUNTY | OSCEOLA COUNTY
OSCODA COUNTY | OSCODA COUNTY
OTSEGO COUNTY | OTSEGO COUNTY
PONTIAC CITY | PONTIAC CITY IN
| OAKLAND COUNTY
PORT HURON CITY | PORT HURON CITY IN
| ST. CLAIR COUNTY
PRESQUE ISLE COUNTY | PRESQUE ISLE COUNTY
ROSCOMMON COUNTY | ROSCOMMON COUNTY
ROSEVILLE CITY | ROSEVILLE CITY IN
| MACOMB COUNTY
SAGINAW CITY | SAGINAW CITY IN
| SAGINAW COUNTY
SAGINAW COUNTY | SAGINAW COUNTY
SANILAC COUNTY | SANILAC COUNTY
SCHOOLCRAFT COUNTY | SCHOOLCRAFT COUNTY
SHIAWASSEE COUNTY | SHIAWASSEE COUNTY
SOUTHFIELD CITY | SOUTHFIELD CITY IN
| OAKLAND COUNTY
ST CLAIR SHORES CITY | ST CLAIR SHORES CITY IN
| MACOMB COUNTY
ST. CLAIR COUNTY | ST. CLAIR COUNTY
ST. JOSEPH COUNTY | ST. JOSEPH COUNTY
TAYLOR CITY | TAYLOR CITY IN
| WAYNE COUNTY
TUSCOLA COUNTY | TUSCOLA COUNTY
VAN BUREN COUNTY | VAN BUREN COUNTY
WARREN CITY | WARREN CITY IN
| MACOMB COUNTY
WATERFORD TOWNSHIP | WATERFORD TOWNSHIP IN
| OAKLAND COUNTY
WAYNE COUNTY | WAYNE COUNTY
WEXFORD COUNTY | WEXFORD COUNTY
WYANDOTTE CITY | WYANDOTTE CITY IN
| WAYNE COUNTY
WYOMING CITY | WYOMING CITY IN
| KENT COUNTY
MINNESOTA
AITKIN COUNTY | AITKIN COUNTY
CASS COUNTY | CASS COUNTY
CLEARWATER COUNTY | CLEARWATER COUNTY
HUBBARD COUNTY | HUBBARD COUNTY
ITASCA COUNTY | ITASCA COUNTY
KANABEC COUNTY | KANABEC COUNTY
KOOCHICHING COUNTY | KOOCHICHING COUNTY
MAHNOMEN COUNTY | MAHNOMEN COUNTY
MARSHALL COUNTY | MARSHALL COUNTY
MILLE LACS COUNTY | MILLE LACS COUNTY
PENNINGTON COUNTY | PENNINGTON COUNTY
PINE COUNTY | PINE COUNTY
RED LAKE COUNTY | RED LAKE COUNTY
ROSEAU COUNTY | ROSEAU COUNTY
WADENA COUNTY | WADENA COUNTY
MISSISSIPPI
ADAMS COUNTY | ADAMS COUNTY
ALCORN COUNTY | ALCORN COUNTY
AMITE COUNTY | AMITE COUNTY
ATTALA COUNTY | ATTALA COUNTY
BENTON COUNTY | BENTON COUNTY
BILOXI CITY | BILOXI CITY IN
| HARRISON COUNTY
BOLIVAR COUNTY | BOLIVAR COUNTY
CALHOUN COUNTY | CALHOUN COUNTY
CARROLL COUNTY | CARROLL COUNTY
CHICKASAW COUNTY | CHICKASAW COUNTY
CHOCTAW COUNTY | CHOCTAW COUNTY
CLAIBORNE COUNTY | CLAIBORNE COUNTY
CLARKE COUNTY | CLARKE COUNTY
CLAY COUNTY | CLAY COUNTY
COAHOMA COUNTY | COAHOMA COUNTY
COPIAH COUNTY | COPIAH COUNTY
FRANKLIN COUNTY | FRANKLIN COUNTY
GEORGE COUNTY | GEORGE COUNTY
GREENE COUNTY | GREENE COUNTY
GREENVILLE CITY | GREENVILLE CITY IN
| WASHINGTON COUNTY
GRENADA COUNTY | GRENADA COUNTY
GULFPORT CITY | GULFPORT CITY IN
| HARRISON COUNTY
HANCOCK COUNTY | HANCOCK COUNTY
HARRISON COUNTY | HARRISON COUNTY
HATTIESBURG CITY | HATTIESBURG CITY IN
| FORREST COUNTY
| LAMAR COUNTY
HOLMES COUNTY | HOLMES COUNTY
HUMPHREYS COUNTY | HUMPHREYS COUNTY
ISSAQUENA COUNTY | ISSAQUENA COUNTY
ITAWAMBA COUNTY | ITAWAMBA COUNTY
JACKSON CITY | JACKSON CITY IN
| HINDS COUNTY
| MADISON COUNTY
| RANKIN COUNTY
JACKSON COUNTY | JACKSON COUNTY
JASPER COUNTY | JASPER COUNTY
JEFFERSON COUNTY | JEFFERSON COUNTY
JEFFERSON DAVIS COUNTY | JEFFERSON DAVIS COUNTY
KEMPER COUNTY | KEMPER COUNTY
LAUDERDALE COUNTY | LAUDERDALE COUNTY
LAWRENCE COUNTY | LAWRENCE COUNTY
LEAKE COUNTY | LEAKE COUNTY
LEE COUNTY | LEE COUNTY
LEFLORE COUNTY | LEFLORE COUNTY
LINCOLN COUNTY | LINCOLN COUNTY
LOWNDES COUNTY | LOWNDES COUNTY
MARION COUNTY | MARION COUNTY
MARSHALL COUNTY | MARSHALL COUNTY
MERIDIAN CITY | MERIDIAN CITY IN
| LAUDERDALE COUNTY
MONROE COUNTY | MONROE COUNTY
MONTGOMERY COUNTY | MONTGOMERY COUNTY
NOXUBEE COUNTY | NOXUBEE COUNTY
OKTIBBEHA COUNTY | OKTIBBEHA COUNTY
PANOLA COUNTY | PANOLA COUNTY
PEARL RIVER COUNTY | PEARL RIVER COUNTY
PERRY COUNTY | PERRY COUNTY
PIKE COUNTY | PIKE COUNTY
PONTOTOC COUNTY | PONTOTOC COUNTY
PRENTISS COUNTY | PRENTISS COUNTY
QUITMAN COUNTY | QUITMAN COUNTY
SHARKEY COUNTY | SHARKEY COUNTY
STONE COUNTY | STONE COUNTY
SUNFLOWER COUNTY | SUNFLOWER COUNTY
TALLAHATCHIE COUNTY | TALLAHATCHIE COUNTY
TATE COUNTY | TATE COUNTY
TIPPAH COUNTY | TIPPAH COUNTY
TISHOMINGO COUNTY | TISHOMINGO COUNTY
TUNICA COUNTY | TUNICA COUNTY
TUPELO CITY | TUPELO CITY IN
| LEE COUNTY
UNION COUNTY | UNION COUNTY
VICKSBURG CITY | VICKSBURG CITY IN
| WARREN COUNTY
WALTHALL COUNTY | WALTHALL COUNTY
WARREN COUNTY | WARREN COUNTY
WASHINGTON COUNTY | WASHINGTON COUNTY
WAYNE COUNTY | WAYNE COUNTY
WEBSTER COUNTY | WEBSTER COUNTY
WILKINSON COUNTY | WILKINSON COUNTY
WINSTON COUNTY | WINSTON COUNTY
YALOBUSHA COUNTY | YALOBUSHA COUNTY
YAZOO COUNTY | YAZOO COUNTY
MISSOURI
BARTON COUNTY | BARTON COUNTY
BUTLER COUNTY | BUTLER COUNTY
CARTER COUNTY | CARTER COUNTY
CRAWFORD COUNTY | CRAWFORD COUNTY
DENT COUNTY | DENT COUNTY
DUNKLIN COUNTY | DUNKLIN COUNTY
HICKORY COUNTY | HICKORY COUNTY
KANSAS CITY MO | KANSAS CITY MO IN
| CASS COUNTY
| CLAY COUNTY
| JACKSON COUNTY
| PLATTE COUNTY
LINN COUNTY | LINN COUNTY
MISSISSIPPI COUNTY | MISSISSIPPI COUNTY
MORGAN COUNTY | MORGAN COUNTY
NEW MADRID COUNTY | NEW MADRID COUNTY
PEMISCOT COUNTY | PEMISCOT COUNTY
REYNOLDS COUNTY | REYNOLDS COUNTY
RIPLEY COUNTY | RIPLEY COUNTY
SHANNON COUNTY | SHANNON COUNTY
ST. CLAIR COUNTY | ST. CLAIR COUNTY
ST. LOUIS CITY | ST. LOUIS CITY
STODDARD COUNTY | STODDARD COUNTY
STONE COUNTY | STONE COUNTY
TANEY COUNTY | TANEY COUNTY
WASHINGTON COUNTY | WASHINGTON COUNTY
WAYNE COUNTY | WAYNE COUNTY
MONTANA
BIG HORN COUNTY | BIG HORN COUNTY
GLACIER COUNTY | GLACIER COUNTY
LINCOLN COUNTY | LINCOLN COUNTY
NEBRASKA
THURSTON COUNTY | THURSTON COUNTY
NEVADA
LYON COUNTY | LYON COUNTY
MINERAL COUNTY | MINERAL COUNTY
NYE COUNTY | NYE COUNTY
NEW JERSEY
ATLANTIC CITY | ATLANTIC CITY IN
| ATLANTIC COUNTY
CAMDEN CITY | CAMDEN CITY IN
| CAMDEN COUNTY
CAPE MAY COUNTY | CAPE MAY COUNTY
CITY OF ORANGE TOWNSHIP | CITY OF ORANGE TOWNSHIP IN
| ESSEX COUNTY
CUMBERLAND COUNTY | CUMBERLAND COUNTY
EAST ORANGE CITY | EAST ORANGE CITY IN
| ESSEX COUNTY
ELIZABETH CITY | ELIZABETH CITY IN
| UNION COUNTY
GARFIELD CITY | GARFIELD CITY IN
| BERGEN COUNTY
IRVINGTON TOWNSHIP | IRVINGTON TOWNSHIP IN
| ESSEX COUNTY
MANCHESTER TOWNSHIP | MANCHESTER TOWNSHIP IN
| OCEAN COUNTY
MILLVILLE CITY | MILLVILLE CITY IN
| CUMBERLAND COUNTY
NEWARK CITY | NEWARK CITY IN
| ESSEX COUNTY
PASSAIC CITY | PASSAIC CITY IN
| PASSAIC COUNTY
PATERSON CITY | PATERSON CITY IN
| PASSAIC COUNTY
PERTH AMBOY CITY | PERTH AMBOY CITY IN
| MIDDLESEX COUNTY
PLAINFIELD CITY | PLAINFIELD CITY IN
| UNION COUNTY
TRENTON CITY | TRENTON CITY IN
| MERCER COUNTY
UNION CITY | UNION CITY IN
| HUDSON COUNTY
VINELAND CITY | VINELAND CITY IN
| CUMBERLAND COUNTY
NEW MEXICO
LUNA COUNTY | LUNA COUNTY
MORA COUNTY | MORA COUNTY
NEW YORK
BRONX COUNTY | BRONX COUNTY
BUFFALO CITY | BUFFALO CITY IN
| ERIE COUNTY
NIAGARA FALLS CITY | NIAGARA FALLS CITY IN
| NIAGARA COUNTY
NORTH CAROLINA
ANSON COUNTY | ANSON COUNTY
BERTIE COUNTY | BERTIE COUNTY
BLADEN COUNTY | BLADEN COUNTY
CALDWELL COUNTY | CALDWELL COUNTY
CASWELL COUNTY | CASWELL COUNTY
CLEVELAND COUNTY | CLEVELAND COUNTY
EDGECOMBE COUNTY | EDGECOMBE COUNTY
| ROCKY MOUNT CITY
GRAHAM COUNTY | GRAHAM COUNTY
HALIFAX COUNTY | HALIFAX COUNTY
MITCHELL COUNTY | MITCHELL COUNTY
MONTGOMERY COUNTY | MONTGOMERY COUNTY
PERSON COUNTY | PERSON COUNTY
RICHMOND COUNTY | RICHMOND COUNTY
ROBESON COUNTY | ROBESON COUNTY
ROCKINGHAM COUNTY | ROCKINGHAM COUNTY
RUTHERFORD COUNTY | RUTHERFORD COUNTY
SALISBURY CITY | SALISBURY CITY IN
| ROWAN COUNTY
SCOTLAND COUNTY | SCOTLAND COUNTY
VANCE COUNTY | VANCE COUNTY
WARREN COUNTY | WARREN COUNTY
WASHINGTON COUNTY | WASHINGTON COUNTY
WILSON CITY | WILSON CITY IN
| WILSON COUNTY
WILSON COUNTY | WILSON COUNTY
NORTH DAKOTA
BENSON COUNTY | BENSON COUNTY
PEMBINA COUNTY | PEMBINA COUNTY
ROLETTE COUNTY | ROLETTE COUNTY
SIOUX COUNTY | SIOUX COUNTY
OHIO
ADAMS COUNTY | ADAMS COUNTY
AKRON CITY | AKRON CITY IN
| SUMMIT COUNTY
ALLEN COUNTY | ALLEN COUNTY
ASHTABULA COUNTY | ASHTABULA COUNTY
BARBERTON CITY | BARBERTON CITY IN
| SUMMIT COUNTY
BROWN COUNTY | BROWN COUNTY
CANTON CITY | CANTON CITY IN
| STARK COUNTY
CARROLL COUNTY | CARROLL COUNTY
CLEVELAND CITY | CLEVELAND CITY IN
| CUYAHOGA COUNTY
COLUMBIANA COUNTY | COLUMBIANA COUNTY
COSHOCTON COUNTY | COSHOCTON COUNTY
CRAWFORD COUNTY | CRAWFORD COUNTY
DAYTON CITY | DAYTON CITY IN
| MONTGOMERY COUNTY
EAST CLEVELAND CITY | EAST CLEVELAND CITY IN
| CUYAHOGA COUNTY
ELYRIA CITY | ELYRIA CITY IN
| LORAIN COUNTY
ERIE COUNTY | ERIE COUNTY
EUCLID CITY | EUCLID CITY IN
| CUYAHOGA COUNTY
FULTON COUNTY | FULTON COUNTY
GALLIA COUNTY | GALLIA COUNTY
GARFIELD HEIGHTS CITY | GARFIELD HEIGHTS CITY IN
| CUYAHOGA COUNTY
GUERNSEY COUNTY | GUERNSEY COUNTY
HARRISON COUNTY | HARRISON COUNTY
HENRY COUNTY | HENRY COUNTY
HOCKING COUNTY | HOCKING COUNTY
HURON COUNTY | HURON COUNTY
JACKSON COUNTY | JACKSON COUNTY
JEFFERSON COUNTY | JEFFERSON COUNTY
LIMA CITY | LIMA CITY IN
| ALLEN COUNTY
LORAIN CITY | LORAIN CITY IN
| LORAIN COUNTY
LORAIN COUNTY | LORAIN COUNTY
LUCAS COUNTY | LUCAS COUNTY
MAHONING COUNTY | MAHONING COUNTY
MANSFIELD CITY | MANSFIELD CITY IN
| RICHLAND COUNTY
MASSILLON CITY | MASSILLON CITY IN
| STARK COUNTY
MEIGS COUNTY | MEIGS COUNTY
MIDDLETOWN CITY | MIDDLETOWN CITY IN
| BUTLER COUNTY
MONROE COUNTY | MONROE COUNTY
MONTGOMERY COUNTY | MONTGOMERY COUNTY
MORGAN COUNTY | MORGAN COUNTY
MUSKINGUM COUNTY | MUSKINGUM COUNTY
NOBLE COUNTY | NOBLE COUNTY
OTTAWA COUNTY | OTTAWA COUNTY
PERRY COUNTY | PERRY COUNTY
PIKE COUNTY | PIKE COUNTY
RICHLAND COUNTY | RICHLAND COUNTY
ROSS COUNTY | ROSS COUNTY
SANDUSKY CITY | SANDUSKY CITY IN
| ERIE COUNTY
SCIOTO COUNTY | SCIOTO COUNTY
SPRINGFIELD CITY | SPRINGFIELD CITY IN
| CLARK COUNTY
TOLEDO CITY | TOLEDO CITY IN
| LUCAS COUNTY
TROTWOOD CITY | TROTWOOD CITY IN
| MONTGOMERY COUNTY
TRUMBULL COUNTY | TRUMBULL COUNTY
VINTON COUNTY | VINTON COUNTY
WARREN CITY | WARREN CITY IN
| TRUMBULL COUNTY
WILLIAMS COUNTY | WILLIAMS COUNTY
WYANDOT COUNTY | WYANDOT COUNTY
YOUNGSTOWN CITY | YOUNGSTOWN CITY IN
| MAHONING COUNTY
ZANESVILLE CITY | ZANESVILLE CITY IN
| MUSKINGUM COUNTY
OKLAHOMA
COAL COUNTY | COAL COUNTY
HUGHES COUNTY | HUGHES COUNTY
MC CURTAIN COUNTY | MC CURTAIN COUNTY
MUSKOGEE CITY | MUSKOGEE CITY IN
| MUSKOGEE COUNTY
SEMINOLE COUNTY | SEMINOLE COUNTY
WOODS COUNTY | WOODS COUNTY
OREGON
ALBANY CITY | ALBANY CITY IN
| LINN COUNTY
BAKER COUNTY | BAKER COUNTY
COOS COUNTY | COOS COUNTY
CROOK COUNTY | CROOK COUNTY
CURRY COUNTY | CURRY COUNTY
DOUGLAS COUNTY | DOUGLAS COUNTY
GRANT COUNTY | GRANT COUNTY
GRANTS PASS CITY, OR | GRANTS PASS CITY, OR IN
| JOSEPHINE COUNTY
HARNEY COUNTY | HARNEY COUNTY
JEFFERSON COUNTY | JEFFERSON COUNTY
JOSEPHINE COUNTY | JOSEPHINE COUNTY
KLAMATH COUNTY | KLAMATH COUNTY
LAKE COUNTY | LAKE COUNTY
LINN COUNTY | LINN COUNTY
MALHEUR COUNTY | MALHEUR COUNTY
MORROW COUNTY | MORROW COUNTY
SPRINGFIELD CITY | SPRINGFIELD CITY IN
| LANE COUNTY
UMATILLA COUNTY | UMATILLA COUNTY
WALLOWA COUNTY | WALLOWA COUNTY
WHEELER COUNTY | WHEELER COUNTY
PENNSYLVANIA
ALLENTOWN CITY | ALLENTOWN CITY IN
| LEHIGH COUNTY
CAMERON COUNTY | CAMERON COUNTY
CHESTER CITY | CHESTER CITY IN
| DELAWARE COUNTY
FAYETTE COUNTY | FAYETTE COUNTY
FOREST COUNTY | FOREST COUNTY
PHILADELPHIA CITY | PHILADELPHIA CITY IN
| PHILADELPHIA COUNTY
PHILADELPHIA COUNTY | PHILADELPHIA COUNTY
POTTER COUNTY | POTTER COUNTY
READING CITY | READING CITY IN
| BERKS COUNTY
YORK CITY | YORK CITY IN
| YORK COUNTY
PUERTO RICO
ADJUNTAS MUNICIPIO | ADJUNTAS MUNICIPIO
AGUADA MUNICIPIO | AGUADA MUNICIPIO
AGUADILLA MUNICIPIO | AGUADILLA MUNICIPIO
AGUAS BUENAS MUNICIPIO | AGUAS BUENAS MUNICIPIO
AIBONITO MUNICIPIO | AIBONITO MUNICIPIO
ANASCO MUNICIPIO | ANASCO MUNICIPIO
ARECIBO MUNICIPIO | ARECIBO MUNICIPIO
ARROYO MUNICIPIO | ARROYO MUNICIPIO
BARCELONETA MUNICIPIO | BARCELONETA MUNICIPIO
BARRANQUITAS MUNICIPIO | BARRANQUITAS MUNICIPIO
BAYAMON MUNICIPIO | BAYAMON MUNICIPIO
CABO ROJO MUNICIPIO | CABO ROJO MUNICIPIO
CAGUAS MUNICIPIO | CAGUAS MUNICIPIO
CAMUY MUNICIPIO | CAMUY MUNICIPIO
CANOVANAS MUNICIPIO | CANOVANAS MUNICIPIO
CAROLINA MUNICIPIO | CAROLINA MUNICIPIO
CATANO MUNICIPIO | CATANO MUNICIPIO
CAYEY MUNICIPIO | CAYEY MUNICIPIO
CEIBA MUNICIPIO | CEIBA MUNICIPIO
CIALES MUNICIPIO | CIALES MUNICIPIO
CIDRA MUNICIPIO | CIDRA MUNICIPIO
COAMO MUNICIPIO | COAMO MUNICIPIO
COMERIO MUNICIPIO | COMERIO MUNICIPIO
COROZAL MUNICIPIO | COROZAL MUNICIPIO
CULEBRA MUNICIPIO | CULEBRA MUNICIPIO
DORADO MUNICIPIO | DORADO MUNICIPIO
FAJARDO MUNICIPIO | FAJARDO MUNICIPIO
FLORIDA MUNICIPIO | FLORIDA MUNICIPIO
GUANICA MUNICIPIO | GUANICA MUNICIPIO
GUAYAMA MUNICIPIO | GUAYAMA MUNICIPIO
GUAYANILLA MUNICIPIO | GUAYANILLA MUNICIPIO
GUAYNABO MUNICIPIO | GUAYNABO MUNICIPIO
GURABO MUNICIPIO | GURABO MUNICIPIO
HATILLO MUNICIPIO | HATILLO MUNICIPIO
HORMIGUEROS MUNICIPIO | HORMIGUEROS MUNICIPIO
HUMACAO MUNICIPIO | HUMACAO MUNICIPIO
ISABELA MUNICIPIO | ISABELA MUNICIPIO
JAYUYA MUNICIPIO | JAYUYA MUNICIPIO
JUANA DIAZ MUNICIPIO | JUANA DIAZ MUNICIPIO
JUNCOS MUNICIPIO | JUNCOS MUNICIPIO
LAJAS MUNICIPIO | LAJAS MUNICIPIO
LARES MUNICIPIO | LARES MUNICIPIO
LAS MARIAS MUNICIPIO | LAS MARIAS MUNICIPIO
LAS PIEDRAS MUNICIPIO | LAS PIEDRAS MUNICIPIO
LOIZA MUNICIPIO | LOIZA MUNICIPIO
LUQUILLO MUNICIPIO | LUQUILLO MUNICIPIO
MANATI MUNICIPIO | MANATI MUNICIPIO
MARICAO MUNICIPIO | MARICAO MUNICIPIO
MAUNABO MUNICIPIO | MAUNABO MUNICIPIO
MAYAGUEZ MUNICIPIO | MAYAGUEZ MUNICIPIO
MOCA MUNICIPIO | MOCA MUNICIPIO
MOROVIS MUNICIPIO | MOROVIS MUNICIPIO
NAGUABO MUNICIPIO | NAGUABO MUNICIPIO
NARANJITO MUNICIPIO | NARANJITO MUNICIPIO
OROCOVIS MUNICIPIO | OROCOVIS MUNICIPIO
PATILLAS MUNICIPIO | PATILLAS MUNICIPIO
PENUELAS MUNICIPIO | PENUELAS MUNICIPIO
PONCE MUNICIPIO | PONCE MUNICIPIO
QUEBRADILLAS MUNICIPIO | QUEBRADILLAS MUNICIPIO
RINCON MUNICIPIO | RINCON MUNICIPIO
RIO GRANDE MUNICIPIO | RIO GRANDE MUNICIPIO
SABANA GRANDE MUNICIPIO | SABANA GRANDE MUNICIPIO
SALINAS MUNICIPIO | SALINAS MUNICIPIO
SAN GERMAN MUNICIPIO | SAN GERMAN MUNICIPIO
SAN JUAN MUNICIPIO | SAN JUAN MUNICIPIO
SAN LORENZO MUNICIPIO | SAN LORENZO MUNICIPIO
SAN SEBASTIAN MUNICIPIO | SAN SEBASTIAN MUNICIPIO
SANTA ISABEL MUNICIPIO | SANTA ISABEL MUNICIPIO
TOA ALTA MUNICIPIO | TOA ALTA MUNICIPIO
TOA BAJA MUNICIPIO | TOA BAJA MUNICIPIO
TRUJILLO ALTO MUNICIPIO | TRUJILLO ALTO MUNICIPIO
UTUADO MUNICIPIO | UTUADO MUNICIPIO
VEGA ALTA MUNICIPIO | VEGA ALTA MUNICIPIO
VEGA BAJA MUNICIPIO | VEGA BAJA MUNICIPIO
VIEQUES MUNICIPIO | VIEQUES MUNICIPIO
VILLALBA MUNICIPIO | VILLALBA MUNICIPIO
YABUCOA MUNICIPIO | YABUCOA MUNICIPIO
YAUCO MUNICIPIO | YAUCO MUNICIPIO
RHODE ISLAND
CENTRAL FALLS CITY | CENTRAL FALLS CITY
| PROVIDENCE COUNTY
PAWTUCKET CITY | PAWTUCKET CITY
| PROVIDENCE COUNTY
PROVIDENCE CITY | PROVIDENCE CITY
SOUTH CAROLINA
ABBEVILLE COUNTY | ABBEVILLE COUNTY
AIKEN CITY | AIKEN CITY IN
| AIKEN COUNTY
ALLENDALE COUNTY | ALLENDALE COUNTY
ANDERSON CITY | ANDERSON CITY IN
| ANDERSON COUNTY
ANDERSON COUNTY | ANDERSON COUNTY
BAMBERG COUNTY | BAMBERG COUNTY
BARNWELL COUNTY | BARNWELL COUNTY
CALHOUN COUNTY | CALHOUN COUNTY
CHEROKEE COUNTY | CHEROKEE COUNTY
CHESTER COUNTY | CHESTER COUNTY
CHESTERFIELD COUNTY | CHESTERFIELD COUNTY
CLARENDON COUNTY | CLARENDON COUNTY
COLLETON COUNTY | COLLETON COUNTY
COLUMBIA CITY | COLUMBIA CITY IN
| RICHLAND COUNTY
DARLINGTON COUNTY | DARLINGTON COUNTY
DILLON COUNTY | DILLON COUNTY
EDGEFIELD COUNTY | EDGEFIELD COUNTY
FAIRFIELD COUNTY | FAIRFIELD COUNTY
FLORENCE CITY | FLORENCE CITY IN
| FLORENCE COUNTY
FLORENCE COUNTY | FLORENCE COUNTY
GEORGETOWN COUNTY | GEORGETOWN COUNTY
GOOSE CREEK CITY | GOOSE CREEK CITY IN
| BERKELEY COUNTY
GREENVILLE CITY | GREENVILLE CITY IN
| GREENVILLE COUNTY
GREENWOOD COUNTY | GREENWOOD COUNTY
HAMPTON COUNTY | HAMPTON COUNTY
KERSHAW COUNTY | KERSHAW COUNTY
LANCASTER COUNTY | LANCASTER COUNTY
LAURENS COUNTY | LAURENS COUNTY
LEE COUNTY | LEE COUNTY
MARION COUNTY | MARION COUNTY
MARLBORO COUNTY | MARLBORO COUNTY
MC CORMICK COUNTY | MC CORMICK COUNTY
MYRTLE BEACH CITY | MYRTLE BEACH CITY IN
| HORRY COUNTY
NEWBERRY COUNTY | NEWBERRY COUNTY
OCONEE COUNTY | OCONEE COUNTY
ORANGEBURG COUNTY | ORANGEBURG COUNTY
ROCKHILL CITY | ROCKHILL CITY IN
| YORK COUNTY
SPARTANBURG CITY | SPARTANBURG CITY IN
| SPARTANBURG COUNTY
SPARTANBURG COUNTY | SPARTANBURG COUNTY
SUMMERVILLE TOWN | SUMMERVILLE TOWN IN
| BERKELEY COUNTY
| CHARLESTON COUNTY
| DORCHESTER COUNTY
SUMTER CITY | SUMTER CITY IN
| SUMTER COUNTY
SUMTER COUNTY | SUMTER COUNTY
UNION COUNTY | UNION COUNTY
WILLIAMSBURG COUNTY | WILLIAMSBURG COUNTY
YORK COUNTY | YORK COUNTY
SOUTH DAKOTA
BUFFALO COUNTY | BUFFALO COUNTY
DEWEY COUNTY | DEWEY COUNTY
SHANNON COUNTY | SHANNON COUNTY
ZIEBACH COUNTY | ZIEBACH COUNTY
TENNESSEE
BENTON COUNTY | BENTON COUNTY
BLEDSOE COUNTY | BLEDSOE COUNTY
CARROLL COUNTY | CARROLL COUNTY
CLAY COUNTY | CLAY COUNTY
CLEVELAND CITY | CLEVELAND CITY IN
| BRADLEY COUNTY
COCKE COUNTY | COCKE COUNTY
COLUMBIA CITY | COLUMBIA CITY IN
| MAURY COUNTY
COOKEVILLE CITY | COOKEVILLE CITY IN
| PUTNAM COUNTY
CROCKETT COUNTY | CROCKETT COUNTY
DECATUR COUNTY | DECATUR COUNTY
FAYETTE COUNTY | FAYETTE COUNTY
FENTRESS COUNTY | FENTRESS COUNTY
GIBSON COUNTY | GIBSON COUNTY
GILES COUNTY | GILES COUNTY
GREENE COUNTY | GREENE COUNTY
GRUNDY COUNTY | GRUNDY COUNTY
HANCOCK COUNTY | HANCOCK COUNTY
HARDEMAN COUNTY | HARDEMAN COUNTY
HAYWOOD COUNTY | HAYWOOD COUNTY
HENDERSON COUNTY | HENDERSON COUNTY
HENRY COUNTY | HENRY COUNTY
HOUSTON COUNTY | HOUSTON COUNTY
HUMPHREYS COUNTY | HUMPHREYS COUNTY
JACKSON CITY | JACKSON CITY IN
| MADISON COUNTY
JACKSON COUNTY | JACKSON COUNTY
JOHNSON COUNTY | JOHNSON COUNTY
KINGSPORT CITY | KINGSPORT CITY IN
| HAWKINS COUNTY
| SULLIVAN COUNTY
LAKE COUNTY | LAKE COUNTY
LAUDERDALE COUNTY | LAUDERDALE COUNTY
LAWRENCE COUNTY | LAWRENCE COUNTY
LEWIS COUNTY | LEWIS COUNTY
MACON COUNTY | MACON COUNTY
MARSHALL COUNTY | MARSHALL COUNTY
MARYVILLE CITY | BLOUNT COUNTY
MAURY COUNTY | MAURY COUNTY
MC NAIRY COUNTY | MC NAIRY COUNTY
MEIGS COUNTY | MEIGS COUNTY
MEMPHIS CITY | MEMPHIS CITY IN
| SHELBY COUNTY
MORGAN COUNTY | MORGAN COUNTY
MORRISTOWN CITY | MORRISTOWN CITY IN
| HAMBLEN COUNTY
OVERTON COUNTY | OVERTON COUNTY
PERRY COUNTY | PERRY COUNTY
PICKETT COUNTY | PICKETT COUNTY
RHEA COUNTY | RHEA COUNTY
SCOTT COUNTY | SCOTT COUNTY
STEWART COUNTY | STEWART COUNTY
VAN BUREN COUNTY | VAN BUREN COUNTY
WARREN COUNTY | WARREN COUNTY
WAYNE COUNTY | WAYNE COUNTY
WEAKLEY COUNTY | WEAKLEY COUNTY
WHITE COUNTY | WHITE COUNTY
TEXAS
BAYTOWN CITY | BAYTOWN CITY IN
| HARRIS COUNTY
BEE COUNTY | BEE COUNTY
BROWNSVILLE CITY | BROWNSVILLE CITY IN
| CAMERON COUNTY
CAMERON COUNTY | CAMERON COUNTY
CORYELL COUNTY | CORYELL COUNTY
DAWSON COUNTY | DAWSON COUNTY
DIMMIT COUNTY | DIMMIT COUNTY
EAGLE PASS CITY | EAGLE PASS CITY IN
| MAVERICK COUNTY
EL PASO COUNTY | EL PASO COUNTY
HIDALGO COUNTY | HIDALGO COUNTY
HOUSTON COUNTY | HOUSTON COUNTY
HUDSPETH COUNTY | HUDSPETH COUNTY
JASPER COUNTY | JASPER COUNTY
KARNES COUNTY | KARNES COUNTY
LANCASTER CITY | LANCASTER CITY IN
| DALLAS COUNTY
LOVING COUNTY | LOVING COUNTY
MATAGORDA COUNTY | MATAGORDA COUNTY
MAVERICK COUNTY | MAVERICK COUNTY
NEWTON COUNTY | NEWTON COUNTY
POLK COUNTY | POLK COUNTY
PORT ARTHUR CITY | PORT ARTHUR CITY IN
| JEFFERSON COUNTY
PRESIDIO COUNTY | PRESIDIO COUNTY
SABINE COUNTY | SABINE COUNTY
SAN AUGUSTINE COUNTY | SAN AUGUSTINE COUNTY
SAN BENITO CITY, TX | SAN BENITO CITY, TX IN
| CAMERON COUNTY
SAN JUAN CITY | SAN JUAN CITY IN
| HIDALGO COUNTY
SOCORRO CITY | SOCORRO CITY IN
| EL PASO COUNTY
STARR COUNTY | STARR COUNTY
TEXAS CITY | TEXAS CITY IN
| GALVESTON COUNTY
TYLER COUNTY | TYLER COUNTY
WESLACO CITY | WESLACO CITY IN
| HIDALGO COUNTY
WILLACY COUNTY | WILLACY COUNTY
ZAVALA COUNTY | ZAVALA COUNTY
VERMONT
KILLINGTON TOWN | KILLINGTON TOWN IN
| RUTLAND COUNTY
VIRGINIA
CHARLOTTE COUNTY | CHARLOTTE COUNTY
COVINGTON CITY | COVINGTON CITY IN
| COVINGTON CITY
DANVILLE CITY | DANVILLE CITY IN
| DANVILLE CITY
HALIFAX COUNTY | HALIFAX COUNTY
MARTINSVILLE CITY | MARTINSVILLE CITY IN
| MARTINSVILLE CITY
PETERSBURG CITY | PETERSBURG CITY IN
| PETERSBURG CITY
WASHINGTON
ADAMS COUNTY | ADAMS COUNTY
BREMERTON CITY | BREMERTON CITY IN
| KITSAP COUNTY
COLUMBIA COUNTY | COLUMBIA COUNTY
COWLITZ COUNTY | COWLITZ COUNTY
FERRY COUNTY | FERRY COUNTY
FRANKLIN COUNTY | FRANKLIN COUNTY
GRANT COUNTY | GRANT COUNTY
GRAYS HARBOR COUNTY | GRAYS HARBOR COUNTY
KLICKITAT COUNTY | KLICKITAT COUNTY
LEWIS COUNTY | LEWIS COUNTY
OKANOGAN COUNTY | OKANOGAN COUNTY
PACIFIC COUNTY | PACIFIC COUNTY
PASCO CITY | PASCO CITY IN
| FRANKLIN COUNTY
PEND OREILLE COUNTY | PEND OREILLE COUNTY
SKAMANIA COUNTY | SKAMANIA COUNTY
STEVENS COUNTY | STEVENS COUNTY
WAHKIAKUM COUNTY | WAHKIAKUM COUNTY
YAKIMA CITY | YAKIMA CITY IN
| YAKIMA COUNTY
YAKIMA COUNTY | YAKIMA COUNTY
WEST VIRGINIA
BROOKE COUNTY | BROOKE COUNTY
CALHOUN COUNTY | CALHOUN COUNTY
CLAY COUNTY | CLAY COUNTY
GREENBRIER COUNTY | GREENBRIER COUNTY
HANCOCK COUNTY | HANCOCK COUNTY
MASON COUNTY | MASON COUNTY
MC DOWELL COUNTY | MC DOWELL COUNTY
POCAHONTAS COUNTY | POCAHONTAS COUNTY
ROANE COUNTY | ROANE COUNTY
SUMMERS COUNTY | SUMMERS COUNTY
TYLER COUNTY | TYLER COUNTY
WETZEL COUNTY | WETZEL COUNTY
WISCONSIN
ADAMS COUNTY | ADAMS COUNTY
APPLETON CITY | APPLETON CITY IN
| CALUMET COUNTY
| OUTAGAMIE COUNTY
| WINNEBAGO COUNTY
BAYFIELD COUNTY | BAYFIELD COUNTY
BELOIT CITY | BELOIT CITY IN
| ROCK COUNTY
BURNETT COUNTY | BURNETT COUNTY
FLORENCE COUNTY | FLORENCE COUNTY
FOREST COUNTY | FOREST COUNTY
GREEN BAY CITY | GREEN BAY CITY IN
| BROWN COUNTY
IRON COUNTY | IRON COUNTY
KENOSHA CITY | KENOSHA CITY IN
| KENOSHA COUNTY
LANGLADE COUNTY | LANGLADE COUNTY
MANITOWOC CITY | MANITOWOC CITY IN
| MANITOWOC COUNTY
MARINETTE COUNTY | MARINETTE COUNTY
MARQUETTE COUNTY | MARQUETTE COUNTY
MENOMINEE COUNTY | MENOMINEE COUNTY
MILWAUKEE CITY | MILWAUKEE CITY IN
| MILWAUKEE COUNTY
OCONTO COUNTY | OCONTO COUNTY
POLK COUNTY | POLK COUNTY
RACINE CITY | RACINE CITY IN
| RACINE COUNTY
RUSK COUNTY | RUSK COUNTY
SAWYER COUNTY | SAWYER COUNTY
VILAS COUNTY | VILAS COUNTY
WASHBURN COUNTY | WASHBURN COUNTY
WEST BEND CITY | WEST BEND CITY IN
| WASHINGTON COUNTY

[FR Doc. E8-23567 Filed 10-6-08; 8:45 am]

BILLING CODE 4510-FN-P